ENVIRONMENTAL PROTECTION AGENCY

[EPA-HQ-OPPT-2022-0773; FRL-10208-01-OCSPP]

Agency Information Collection Activities; Proposed Collection and Request for Comment; Pollution Prevention (P2) Grantee Data Collection in Standard Electronic Format

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Pollution Prevention (P2) Grantee Data Collection in Standard Electronic Format” (EPA ICR No. 2728.01; OMB Control No. 2070-NEW), represents a new ICR. Before submitting the ICR to OMB for review and approval under the PRA, EPA is soliciting comments on specific aspects of the information collection that is summarized in this document. The ICR and accompanying material are available in the docket for public review and comment.

DATES: Comments must be submitted on or before April 17, 2023.

ADDRESSES: Submit your comments, identified by docket identification (ID) number EPA-HQ-OPPT-2022-0772, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For general information contact: Katherine Sleasman, Regulatory Support Branch (7602M), Office of Chemical Safety and Pollution Prevention, Environmental Protection Agency, 1200 Pennsylvania Ave., NW, Washington, DC 20460-0001; telephone number: (202) 566-1205; email address: sleasman.katherine@epa.gov

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Pollution Prevention (P2) Grantee Data Collection in Standard Electronic Format.

ICR numbers: EPA ICR No.2728.01 and OMB Control No. 2070-NEW.

ICR status: This ICR is a new information collection activity. Under the PRA, an Agency may not conduct or sponsor, and a person is not required to respond to, a collection of information, unless it displays a currently valid OMB control number. The OMB control numbers, after appearing in the Federal Register when approved, are displayed either by publication in the Federal Register or by other appropriate means, such as with the related collection instrument or form, if applicable. The display of OMB control numbers for certain EPA regulations in title 40 of the Code of Federal Regulations (CFR) is consolidated in 40 CFR part 9.

Abstract: This ICR presents EPA's estimates for the burden and costs associated with the information collection activities related to pollution prevention grant programs and the collection of activity and results data from the grantees via a standard electronic format.

Pollution prevention (P2) means reducing or eliminating pollutants from entering any waste stream or otherwise being released into the environment prior to recycling, treatment, or disposal. EPA's P2 program operates three grant programs and is developing two new grant programs. The three existing programs are: The Pollution Prevention State Tribal Assistance Grants (P2 STAG); the Bipartisan Infrastructure Law Pollution Prevention Grants (P2 BIL); and the Source Reduction Assistance (SRA) Grants. The P2 STAG and SRA grants are funded through recurring appropriations and require grantees to provide matching funds. The P2 BIL grants, which are funded through the 2021 Infrastructure Investment and Jobs Act (IIJA), also referred to as the Bipartisan Infrastructure Law (BIL), are also STAG but do not require grantees to provide matching funds. The two new grant programs under development are: The Pollution Prevention Grant: Environmental Justice Through Safer/Sustainable Products (P2 EJ Products); and the Pollution Prevention Grant: Environmental Justice in Communities (P2 EJ Facilities). The P2 EJ Products and P2 EJ Facilities grants will also be supported by BIL funding and, as such, do not require grantee matching funds.

EPA's goal in developing a standard electronic format is to provide a consistent manner of data collection from grant-funded projects so that ultimately the information collected can be inputted into a database which is searchable and sharable. To date, EPA has developed two templates in MS Excel format. The templates include two forms for two types of P2 and SRA projects: one for projects providing direct technical assistance to businesses (EPA Form 9600-047 (Template #1)) and one for projects supporting recognition and leadership programs or providing P2 technical assistance to broad audiences, including webinars, roundtables, tool development, research and demonstration projects (EPA Form 9600-048 (Template #2)). The completed templates will be collected annually by Regional grant administrators, who will be responsible for reviewing the data prior to database upload. EPA is in the process of completing similar templates for the two new grant programs and anticipates the reporting burden will be similar to the two existing grant programs.

The ICR, which is available in the docket along with other related materials, provides a detailed explanation of the collection activities and the burden estimate that is only briefly summarized here.

Burden statement: The annual public reporting and recordkeeping burden for this collection of information is estimated to average 14 to 20 per response. Burden is defined in 5 CFR 1320.3(b).

Respondents/affected entities: Entities potentially affected by this ICR may include entities identified by the North American Industrial Classification System (NAICS) code 99200, i.e., State Governmental entities.

Respondent's obligation to respond: Mandatory for grant recipients.

Estimated total number of potential respondents: 275 (total).

Frequency of response: On occasion.

Estimated total average number of responses for each respondent: 1 (per year).

Estimated total annual estimated burden hours: 5,123 hours (per year).

Estimated total annual costs: $431,778 (per year), includes $0 annualized capital or operation and maintenance costs.

III. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: February 2, 2023.
Michal Freedhoff,
Assistant Administrator, Office of Chemical Safety and Pollution Prevention.

[FR Doc. 2023-03139 Filed 2-14-23; 8:45 am]

BILLING CODE 6560-50-P